TENNESSEE VALLEY AUTHORITY

Environmental Impact Statement; Integrated Resource Plan

AGENCY: Tennessee Valley Authority.

ACTION: Notice of intent.

SUMMARY: The Tennessee Valley Authority (TVA) is conducting a comprehensive study of its energy, resource and sustainability choices called TVA's Environmental and Energy Future. The purpose of this study is to evaluate TVA's portfolio of resource options for achieving a sustainable future and meeting the future electrical energy and resource stewardship needs of the Tennessee Valley. As part of the study, TVA will prepare a programmatic environmental impact statement (EIS). TVA will use the EIS process to elicit and prioritize the values and concerns of stakeholders; identify issues, trends, events, and tradeoffs affecting TVA's policies; formulate, evaluate and compare alternative portfolios of resource options; provide opportunities for public review and comment; and ensure that TVA's evaluation of future resource portfolios reflects a full range of stakeholder input. Public comment is invited concerning both the scope of the EIS and environmental issues that should be addressed as a part of this EIS.

DATES: Comments on the scope of the EIS must be received on or before August 14, 2009. Public meetings will be held to obtain comments on the scope of the EIS and to provide information about TVA's planning processes. The locations and times for these meetings will be announced later on the project Web site and in local and regional newspapers.

ADDRESSES: Written comments should be sent to Charles P. Nicholson, Tennessee Valley Authority, 400 West Summit Hill Drive, WT 11D, Knoxville, Tennessee 37902. Comments also may be submitted on the project Web site at http://www.tva.gov/irp, by e-mail at IRP@tva.gov, or by fax at 865-632-2345.

FOR FURTHER INFORMATION CONTACT: Randall E. Johnson, IRP Project Manager, Tennessee Valley Authority, 1101 Market Street, LP 5U, Chattanooga, Tennessee 37401, telephone 423-751-3520, or e-mail rejohnson1@tva.gov.

SUPPLEMENTARY INFORMATION:

Background

This notice is provided in accordance with the Council on Environmental Quality's Regulations (40 CFR parts 1500 to 1503) and TVA's procedures for implementing the National Environmental Policy Act (NEPA).

TVA is an agency and instrumentality of the United States, established by an act of Congress in 1933, to foster the social and economic welfare of the people of the Tennessee Valley region and to promote the proper use and conservation of the region's natural resources. One component of this mission is the generation, transmission, and sale of reliable and affordable electric energy. Another component of this mission is to manage the natural resources of the Valley for the benefit of the region and the nation. This is done through management of the Tennessee River system and associated public lands to reduce flood damage, maintain navigation, support power production and recreational uses, improve water quality and supply, and protect shoreline resources. TVA's mission also includes aiding the economic development of the Valley in order to benefit the people of the region and being a leader in technological innovation.

TVA Power System

TVA operates the nation's largest public power system, producing 4 percent of all the electricity in the nation. TVA provides electricity to most of Tennessee and parts of Virginia, North Carolina, Georgia, Alabama, Mississippi, and Kentucky. It serves about 9 million people in this seven-State region through 158 power distributors and 58 directly served large industries and Federal facilities. The TVA Act requires the TVA power system to be self-supporting and operated on a nonprofit basis and directs TVA to sell power at rates as low as are feasible.

Dependable capacity on the TVA power system is about 37,000 megawatts. TVA generates most of this with 3 nuclear plants, 11 coal-fired plants, 9 combustion-turbine plants, 29 hydroelectric dams, a pumped-storage facility, a wind farm, a methane-gas cofiring facility, and several small solar photovoltaic facilities. A portion of delivered power is provided through long-term power purchase agreements. About 60 percent of TVA's annual generation is from fossil fuels, predominantly coal; 30 percent is from nuclear; and the remainder is from hydro and other renewable energy resources. TVA transmits electricity from these facilities over 15,000 miles of transmission lines. Like other utility systems, TVA has power interchange agreements with utilities surrounding its region and purchases and sells power on an economy basis almost daily.

Energy Power Planning Activities

In the mid-1990s, TVA developed an integrated resource plan with extensive public involvement. This process was completed with publication of the Energy Vision 2020 IRP/Final EIS in 1995 and the associated Record of Decision in 1996. Based on the extensive evaluation, TVA decided to adopt a flexible portfolio of supply- and demand-side energy resource options to meet the growing demand for electricity in the region and achieve the goals of the TVA Act and other congressional directives. This portfolio of energy resource options, as amended through subsequent EISs, will be a baseline for evaluations conducted as part of this EIS process. As appropriate, TVA expects to continue to implement the existing portfolio of resource options during this EIS process.

Environmental Stewardship Planning Activities

The management of the Tennessee Valley reservoirs and the lands adjacent to them, and the manner in which TVA complies with environmental laws and regulations, have long been integral components of TVA's mission. In carrying out its mandate, TVA developed an integrated reservoir system that includes 49 dams and reservoirs. TVA originally acquired approximately 1.3 million acres of land for these projects. The construction and operation of the reservoir system inundated approximately 470,000 acres with water. TVA has transferred or sold approximately 508,000 acres, the majority of which was transferred to other Federal and State agencies for public uses. TVA retains a role in the management of much of this land through deed restrictions. TVA currently owns approximately 293,000 acres which continue to be managed for a variety of purposes including recreation, wildlife habitat, and resource protection. TVA recognizes that these resources and their management are important for the region's quality of life.

In 2006, the TVA Board of Directors approved the TVA Land Policy which states that it is TVA's policy to preserve reservoir lands remaining under its control in public ownership except in those rare instances where the benefits to the public will be so significant that transferring lands from TVA control to private ownership or another public entity is justified.

TVA has addressed environmental stewardship policies and activities in two programmatic EISs. In 2004, TVA completed the comprehensive Reservoir Operations Study which supported the adoption of robust policy for the integrated operation of TVA's reservoir system. In 1998, TVA completed the Shoreline Management Initiative Final EIS which supported the adoption of a policy for the management of residential shoreline development on TVA reservoirs. As appropriate, TVA expects to continue to implement these policies and employ associated resource tools during this EIS process. These policies will help provide the baseline for the IRP EIS, and TVA does not plan to revisit them in this EIS. The IRP EIS will focus on stewardship activities mainly occurring on TVA's lands across the Valley.

Existing TVA Policies

In 2007, the TVA Board adopted its current strategic plan which sets the following broad objectives: (1) Maintain power reliability, provide competitive rates, and build trust with TVA's customers; (2) build pride in TVA's performance and reputation; (3) adhere to a set of sound financial guiding principles to improve TVA's fiscal performance; (4) use TVA's assets to meet market demand and deliver public value; and (5) improve performance to be recognized as an industry leader. In 2008, the TVA Board approved the current environmental policy which sets forth broad environmental goals for TVA in the six major categories of climate change mitigation, air quality improvement, water resource protection and improvement, waste minimization, sustainable land use, and natural resource management. The IRP will use these goals and objectives as guidance to help formulate alternative resource portfolios and determine their value. TVA would appreciate stakeholder input on the value of these goals and objectives.

Proposed Issues To Be Addressed

Based on both internal and external stakeholder discussions, TVA anticipates that the major issues to be addressed in the IRP EIS will be the cost and reliability of power, the effects of power production on the environment, including climate change, the effects of climate change on the Valley, the availability and use of renewable power resources, the effectiveness and implementation of demand side management options, including energy efficiency, handling waste and byproducts of TVA's power operations, selecting and prioritizing techniques for the management of ecological and cultural resources, meeting the future recreational needs of the Valley, and the relationship of the economy to all of these activities. Generic resource options will be the primary focus of the EIS.

Because of the programmatic nature of this study, TVA anticipates that the environmental effects which are examined will primarily be those at a regional level with some extending to a national or global level. This would include such potential environmental effects and issues as emissions of greenhouse gases, air quality, water quality and quantity, waste generation and disposal, and ecological and cultural resources. Socioeconomic impacts within the region that may result from alternative energy and stewardship strategies will also be considered. The more site-specific effects will not be addressed in detail and would be addressed in later tiered assessments of specific implementing activities.

This list of issues is preliminary and is intended to facilitate public comment on the scope of this EIS. TVA invites suggestions concerning the list of issues which should be addressed. TVA also invites specific comments on the questions that will begin to be answered by IRP:

* How should TVA measure its success in the future?

* Should the current power generation mix (e.g., coal, nuclear power, natural gas, hydro, renewables) change? If so, how?

* Should renewable power be available and added in the Valley at a significant scale? If so, how?

* How should energy efficiency and demand response be considered in planning for future energy needs and how can TVA directly affect electricity usage by consumers?

* What stewardship activities should TVA focus on over the next 10-20 years?

* And how will all of this affect reliability and the price we pay for electricity?

Analytical Approach

The IRP/EIS will address the demand for power and stewardship in the TVA service area, the value of various resource options to the public served by TVA, the means of meeting that demand, and the potential environmental, economic, and operating effects of those means. The IRP/EIS will project future resource demands over at least a 10-20-year period.

Generally speaking, TVA will conduct the following steps in the IRP process:

1. Demand forecasting for both power and stewardship resources in the Valley.

2. Resource characterization to define the resource options and their physical, cost, and environmental characteristics.

3. Implementation strategy building by creating alternative resource portfolios.

4. Risk characterization to determine various types of risk for different resources.

5. A multi-attribute tradeoff analysis which will help show tradeoffs that may have to be made in the selection of competing resource options.

6. Finally, and most importantly, the study will evaluate how the various options help TVA meet its legislated mission and the constraints imposed by Congress and the Administration through various laws and regulations, both specific to TVA and for our society in general.

These steps would be conducted in an iterative manner to test alternative portfolios or strategies with the goal of identifying a number of alternative strategies that are robust in the sense that they perform reasonably well under a number of scenarios.

Scoping Process

While most people value reliable, affordable, and environmentally friendly electricity along with resource protection and recreation opportunities, different people place different weight on these values. Some are more concerned about energy prices, some on reliability of energy services, while others are more concerned about environmental quality. Ultimately, it is TVA's responsibility to balance all of these factors as it plans for the future. We believe strongly that if we get a diverse group of interested people to participate, our plans for the next 10-20 years will best serve the Valley.

Scoping, which is integral to the process for implementing NEPA, provides an early and open process to ensure that (1) issues are identified early and properly studied; (2) issues of little significance do not consume substantial time and effort; (3) the draft EIS is thorough and balanced; and (4) delays caused by an inadequate EIS are avoided.

With the help of the public, TVA will identify the most effective energy and resource stewardship portfolio that will meet TVA's mission and serve the people of the Valley for the next 10-20 years. To ensure that the full range of issues and a comprehensive portfolio of energy resources and environmental stewardship activities are addressed, TVA invites members of the public as well as Federal, State, and local agencies and Indian tribes to comment on the scope of the IRP EIS. As part of the EIS process, TVA anticipates asking representatives from key stakeholder groups to participate in a public review group which will meet several times over the course of the study to learn about the issues, discuss tradeoffs association with different resource options, and work with TVA on what a model resource portfolio will look like. It is important that Valley residents and all of those interested in planning the energy and stewardship future of the Tennessee Valley region participate in this process. As part of both the scoping and draft EIS review processes, TVA intends to seek out the views of and meet regularly with members of the public, representatives of various stakeholder groups, and the public review group.

TVA will hold public information meetings about the IRP EIS. The dates and locations of the information meetings will be posted on the IRP EIS Web site and published in local and regional newspapers.

Comments on the scope of this EIS should be submitted no later than the date given under the DATES section of this notice. Any comments received, including names and addresses, will become part of the administrative record and will be available for public inspection.

After consideration of the comments received during this scoping period, TVA will develop and distribute a document which will summarize public and agency comments that were received and identify the issues and alternatives to be addressed in the EIS and identify the schedule for completing the EIS process. Following analysis of the issues, TVA will prepare a draft EIS for public review and comment. Notice of availability of the draft EIS will be published by the U.S. Environmental Protection Agency in the Federal Register. TVA will solicit comments on the draft EIS and hold public meetings to address it. TVA expects to release the draft EIS in early 2010.

Dated: June 8, 2009.
Anda A. Ray,
Senior Vice President, Office of Environment and Research.

[FR Doc. E9-13986 Filed 6-12-09; 8:45 am]

BILLING CODE 8120-08-P